FEDERAL TRADE COMMISSION

16 CFR Part 305

Rule Concerning Disclosures Regarding Energy Consumption and Water Use of Certain Home Appliances and Other products Required Under the Energy Policy and Conservation Act (“Appliance Labeling Rule”)

AGENCY: Federal Trade Commission.

ACTION: Final rule.

SUMMARY: The Federal Trade Commission (“Commission”) amends its Appliance Labeling Rule (“Rule”) by publishing new ranges of comparability to be used on required labels for standard and compact dishwashers. The Commission is also publishing minor and conforming changes to the requirements for EnergyGuide labels for dishwashers.

EFFECTIVE DATES: The amendments to § 305.11, Appendix C2 to part 305 (ranges for standard-size dishwashers), and Appendix L to part 305 will become effective September 17, 2002. The amendments to Appendix C1 to part 305 establishing new ranges of comparability for compact dishwashers will become effective March 22, 2003.

FOR FURTHER INFORMATION CONTACT: Hampton Newsome, Attorney, Division of Enforcement, Federal Trade Commission, Washington, DC 20580, (202) 326-2889); hnewsome@ftc.gov.

SUPPLEMENTARY INFORMATION: The Rule was issued by the Commission in 1979, 44 FR 66466 (Nov. 19, 1979), in response to a directive in the Energy Policy and Conservation Act of 1975 (“EPCA”).¹ The Rule covers several categories of major household appliances including dishwashers.

¹ 42 U.S.C. 6294. The statute also requires the Department of Energy (“DOE”) to develop test procedures that measure how much energy the appliances use, and to determine the representative average cost a consumer pays for the different types of energy available.

The Rule requires manufacturers of all covered appliances to disclose specific energy consumption or efficiency information (derived from the DOE test procedures) at the point of sale in the form of an “Energy Guide” label and in catalogs. The Rule requires manufacturers to include, on labels and fact sheets, an energy consumption or efficiency figure and a “range of comparability.” This range shows the highest and lowest energy consumption or efficiencies for all comparable appliance models so consumers can compare the energy consumption or efficiency of other models (perhaps competing brands) similar to the labeled model. The Rule also requires manufacturers to include, on labels for some products, a secondary energy usage disclosure in the form of an estimated annual operating cost based on a specified DOE national average cost for the fuel the appliance uses.

Section 305.8(b) of the Rule requires manufacturers, after filing an initial report, to report certain information annually to the Commission by specified dates for each product type.²These reports, which are to assist the Commission in preparing the ranges of comparability, contain the estimated annual energy consumption or energy efficiency ratings for the appliances derived from tests performed pursuant to the DOE test procedures. Because manufacturers regularly add new models to their lines, improve existing models, and drop others, the data base from which the ranges of comparability are calculated is constantly changing. To keep the required information on labels consistent with these changes, the Commission will publish new ranges if an analysis of the new information indicates that the upper or lower limits of the ranges have changed by more than 15%. Otherwise, the Commission will publish a statement that the prior ranges remain in effect for the next year.

² Reports for dishwashers are usually due June 1. For reasons detailed in the Federal Register on May 17, 2002 (67 FR 35006), this submission date was changed to June 17 for 2002 submissions.

I. 2002 Dishwasher Data

A. New Ranges

The Commission has analyzed the annual data submissions for dishwashers. The data submissions show significant change in the high or low ends of the range of comparability scale for standard and compact models.³ Accordingly, the Commission is publishing new ranges of comparability for standard and compact dishwashers. These new ranges of comparability supersede the current ranges for compact-sized dishwashers (Appendix C1), which were published on September 28, 2001, and for standard dishwashers (Appendix C2), which were published on August 25, 1997. As of the effective date of these new ranges, manufacturers of these dishwashers must base the disclosures of estimated annual operating cost required at the bottom of EnergyGuide labels for compact-sized dishwashers on the 2002 Representative Average Unit Costs of Energy for electricity (8.28 cents per Kilo Watt-hour) and natural gas (65.6 cents per therm) that were published by DOE on April 24, 2002 (67 FR 20104) and by the Commission on June 7, 2002 (67 FR 39269).

³ The Commission's classification of “Standard” and “Compact” dishwashers is based on internal load capacity. Appendix C of the Commission's Rule defines “Compact” as including countertop dishwasher models with a capacity of fewer than eight (8) place settings and “Standard” as including portable or built-in dishwasher models with a capacity of eight (8) or more place settings. The Rule requires that place settings be determined in accordance with appendix C to 10 CFR Part 430, subpart B, of DOE's energy conservation standards program.

B. Effective Dates

Section 326(c) of EPCA states that the Commission cannot require that labels be changed more often than annually to reflect changes in the ranges of comparability.⁴ Because the effective date of the Federal Register document establishing the current ranges of comparability for compact-sized dishwashers was March 22, 2002, the effective date of today's revised ranges of comparability for compact-sized dishwashers will be March 22, 2003. All other amendments announced in this document, including the changes to the range for standard dishwashers in Appendix C2, will become effective September 17, 2002.

⁴ 42 U.S.C. 6296(c).

II. Labeling Under the New DOE Test Procedure

On December 18, 2001 (66 FR 65094), DOE published amendments to the test procedure that manufacturers must use to determine the energy use of their dishwashers. This new test became effective June 17, 2002. Among other things, the amended DOE test procedure reduces the number of annual cycles manufacturers must use in calculating their dishwashers' energy consumption. These changes uniformly have decreased the disclosed energy consumption for dishwashers. Under EPCA, all energy use representations (including information on the EnergyGuide labels) must reflect the amended test procedure beginning 180 days after the change in the procedure is prescribed (i.e., June 17, 2002).⁵ In a May 17, 2002 document (67 FR 35006), however, the Commission announced that it does not expect manufacturers to change their labels this year to reflect the amended test procedure until after the Commission publishes new ranges of comparability based on the new DOE test. In other words, the Commission is exercising discretion to not take law enforcement action against manufacturers that have waited to account for the new test procedure on their labels until the Commission provided notice about new ranges for dishwashers. In this document, the Commission has now published new ranges of comparability. Accordingly, manufacturers now have the necessary information to label their products to reflect the products' energy use based on the results of the new test procedures and the new ranges of comparability (also based on data derived from the new test procedure).

⁵ 42 U.S.C. 6293(c).

III. Minor, Conforming Changes to the EnergyGuide Label

The new ranges published here and the new DOE test procedure also require a change to the explanatory information provided on EnergyGuide labels for dishwashers. Currently, § 305.11(a)(5)(i)(H)(2) of the Rule requires dishwasher labels to contain language indicating that the information on the label is based on “six washloads a week.” Because the new DOE test procedure requires manufacturers to assume 264 cycles per year instead of 322 in their calculation, the explanatory language on the EnergyGuide label must now be changed to state that the information is based on “five washloads” a week. The Commission is amending the requirements in § 305.11 and sample label 4 in Appendix L to effect these minor and conforming changes. The Commission is also amending cost information in sample label 4 to reflect this year's energy cost information as published by DOE (67 FR 20104) and the Commission (67 FR 39269).

IV. Administrative Procedure Act

The amendments published in this document involve routine, technical and minor, or conforming changes to the labeling requirements in the Rule. These technical amendments merely provide a routine change to the range information required on EnergyGuide labels. The minor or conforming amendments require changes to the EnergyGuide label so that the information is accurate and reflects recent changes that DOE has made to the test procedures for these products. Accordingly, the Commission finds for good cause that public comment for these technical, procedural amendments is impractical and unnecessary (5 U.S.C. 553(b)(A)(B) and (d)).

V. Regulatory Flexibility Act

The provisions of the Regulatory Flexibility Act relating to a Regulatory Flexibility Act analysis (5 U.S.C. 603-604) are not applicable to this proceeding because the amendments do not impose any new obligations on entities regulated by the Appliance Labeling Rule. These technical amendments merely provide a routine change to the range information required on EnergyGuide labels. Thus, the amendments will not have a “significant economic impact on a substantial number of small entities.” 5 U.S.C. 605. The Commission has concluded, therefore, that a regulatory flexibility analysis is not necessary, and certifies, under section 605 of the Regulatory Flexibility Act (5 U.S.C. 605(b)), that the amendments announced today will not have a significant economic impact on a substantial number of small entities.

VI. Paperwork Reduction Act

In a June 13, 1988 document (53 FR 22106), the Commission stated that the Rule contains disclosure and reporting requirements that constitute “information collection requirements” as defined by 5 CFR 1320.7(c), the regulation that implements the Paperwork Reduction Act.⁶ The Commission noted that the Rule had been reviewed and approved in 1984 by the Office of Management and Budget (“OMB”) and assigned OMB Control No. 3084-0068. OMB has reviewed the Rule and extended its approval for its recordkeeping and reporting requirements until September 30, 2004. The amendments now being adopted do not change the substance or frequency of the recordkeeping, disclosure, or reporting requirements and, therefore, do not require further OMB clearance.

⁶ 44 U.S.C. 3501-3520.

List of Subjects in 16 CFR Part 305

Advertising, Energy conservation, Household appliances, Labeling, Reporting and recordkeeping requirements.

Accordingly, 16 CFR Part 305 is amended as follows:

PART 305—[AMENDED]

1. The authority citation for part 305 continues to read as follows:

Authority: 42 U.S.C. 6294.

2. Section 305.11(a)(5)(i)(H)(2) is revised to read as follows:

§ 305.11 Labeling for covered products.

(a) * * *

(5) * * *

(i) * * *

(H) * * *

(2) For clothes washers and dishwashers, the statement will read as follows (fill in the blanks with the appropriate appliance name, the operating cost, the number of loads per week, the year, and the energy cost figures):

[Clothes Washers, or Dishwashers] using more energy cost more to operate. This model's estimated yearly operating cost is: [Electric cost figure will be boxed] when used with an electric water heater [Gas cost figure will be boxed] when used with a natural gas water heater.

Based on [5 washloads a week for dishwashers, or 8 washloads a week for clothes washers], and a [Year] U.S. Government national average cost of $—— per KWh for electricity and $—— per therm for natural gas. Your actual operating cost will vary depending on your local utility rates and your use of the product.

* * * * *

3. Appendix to Part 305 is revised to read as follows:

Appendix C1 to Part 305—Compact Dishwashers

Range Information

“Compact” includes countertop dishwasher models with a capacity of fewer than eight (8) place settings. Place settings shall be in accordance with appendix C to 10 CFR Part 430, subpart B. Load patterns shall conform to the operating normal for the model being tested.

Capacity Compact | Range of estimated annual energy consumption (k Wh/yr.): Low | Range of estimated annual energy consumption (k Wh/yr.): High
Compact | 176 | 176

Cost Information

When the above ranges of comparability are used on Energy Guide labels for compact-sized dishwashers, the estimated annual operating cost disclosure appearing in the box at the bottom of the labels must be derived using the 2002 Representative Average Unit Costs for electricity (8.28¢ per kilo Watt-hour) and natural gas (65.6¢ per therm), and the text below the box must identify the costs as such.

* * * * *

4. Appendix C2 to Part 305 is revised to read as follows:

Appendix C2 to Part 305—Standard Dishwashers

Range Information

“Standard” includes portable or built-in dishwasher models with a capacity of eight (8) or more place settings. Place settings shall be in accordance with appendix C to 10 CFR part 430, subpart B. Load patterns shall conform to the operating normal for the model being tested.

Capacity | Range of estimated annual energy consumption (k Wh/yr.): Low | Range of estimated annual energy consumption (k Wh/yr.): High
Standard | 312 | 573

Cost Information

When the above ranges of comparability are used on Energy Guide labels for standard-sized dishwashers, the estimated annual operating cost disclosure appearing in the box at the bottom of the labels must be derived using the 2002 Representative Average Unit Costs for electricity (8.28¢ per kilo Watt-hour) and natural gas (65.6¢ per therm), and the text below the box must identify the costs as such.

5. Appendix L to part 305 is amended by revising Sample Label 4 to read as follows:

Appendix L to Part 305—Sample Labels

* * * * *

BILLING CODE 6750-01-M

By direction of the Commission.
Donald S. Clark,
Secretary.

[FR Doc. 02-18114 Filed 7-18-02; 8:45 am]

BILLING CODE 6750-01-C